OFFICE OF MANAGEMENT AND BUDGET

Office of Federal Financial Management Policy Directive on Use of Grants.Gov FIND

AGENCY: Office of Management and Budget.

ACTION: Notice of issuance of final policy directive.

SUMMARY: The Office of Federal Financial Management (OFFM) is issuing a policy directive requiring Federal agencies to use the Grants.gov FIND module to electronically post synopses of funding opportunities under Federal financial assistance programs that award discretionary grants and cooperative agreements. The policy directive includes an attachment which contains the government-wide standard set of data elements to be used by Federal agencies when posting synopses at http://www.Grants.gov or such Web site/Internet address designated by the Office of Management and Budget (OMB). The purpose of the Grants.gov FIND module is to provide potential applicants with (1) enough information about any funding opportunity to decide whether they are interested in viewing the full announcement; (2) information on one or more ways to obtain the full announcement (e.g., an Internet site, e-mail address or telephone number); and (3) one common Web site for all Federal grant opportunities searchable by key word, date, Catalog of Federal Domestic Assistance (CFDA) number or specific agency name. The Federal agencies jointly developed the standard data elements to be used for posting the synopses information as part of their grant streamlining efforts to implement the Federal Financial Assistance Management Improvement Act of 1999 (Public Law 106-107).

FOR FURTHER INFORMATION CONTACT: Office of Federal Financial Management, Office of Management and Budget, 725 17th Street, NW., Washington, DC 20503; telephone: (202) 395-3993; fax: (202) 395-3952.

SUPPLEMENTARY INFORMATION:

I. Background

In a Federal Register notice [68 FR 37379], published on June 23, 2003, the Office of Management and Budget (OMB) finalized a standard set of data elements for use by Federal agencies to electronically post synopses of announcements of funding opportunities under programs that award discretionary grants and cooperative agreements at http://www.Grants.gov, the current Web site for the Grants.gov FIND module. Also on June 23, 2003, another Federal Register notice [68 FR 37385] proposed an OFFM policy to establish the requirement for agencies to post funding opportunity synopses in the Grants.gov FIND module.

We received comments from seven Federal agencies on the proposed policy. We considered all comments in developing this final OFFM policy directive. Comments on the policy supported establishing the requirement for agencies to post synopses of funding opportunities in the Grant.gov FIND module. The following paragraphs summarize the comments and our responses.

II. Comments and Responses

Comment: One commenter noted a discrepancy in one of the FIND data elements. Specifically, the “Additional information on eligibility” data element notes that it is “Required if agency selects either category 25 or category 99 in the ‘Eligible applicants’ field” data element. The commenter notes there is no category 25 in the June 23, 2003, published standard [68 FR 37379].

Response: Agree. The commenter has correctly noted a shortcoming in the FIND data elements published on June 23, 2003. The full set of codes is available in the attachment to this policy and on the Grants.gov Web site. To clarify in this response, code 25 is for “Others (see text field entitled ‘Additional information on eligibility’ for clarification)”.

Comment: One commenter recommended that the policy be changed to ensure the policy applies to postings of an initial announcement and any modification of the announcement.

Response: Agree. Section 4(a), “Applicability” of the policy directive, and the Grants.gov FIND Data Elements/Format have been revised to reflect that postings include initial announcements and modifications to announcements.

Comment: A commenter recommended there be a separate FIND template for modifications of announcements. In accordance with the OMB announcement format policy, agencies should only have to provide the date of the announcement and identify what has been modified.

Response: The Grants.gov instructions for input to the FIND module have been clarified to be consistent with the standard announcement format notice [68 FR 37376], Overview Information, Announcement Type. For a modification entry, only the date of the previous announcement synopsis and information that has been changed need to be entered. A separate FIND template for a modification is not necessary because the current FIND module accommodates any modifications.

Comment: The commenter recommended that Section 4, “Policy” which references the uniform resource locator (URL), be amended to add, “or such web/Internet address as may be identified by the Grants.gov Project Management Office.” It is suggested that this would alleviate revising the policy directive in the event the URL changed.

Response: Agree. Language has been revised to reflect “or such Web site/Internet address as may be identified by the Office of Management and Budget (OMB)” since this policy is issued by OMB.

Comment: A commenter indicated that the second sentence of the introductory paragraph appears to make Grants.gov FIND (the terminology that will supercede “FedGrants.gov”) the primary location for publication of the complete funding opportunity, since it states that agencies are required to post funding opportunities for all discretionary grant and cooperative agreement programs at that site. Their understanding is that the posting requirement is for the synopsis with a link to the full announcement (unless uploaded in Grants.gov FIND) and that agencies will continue to post their full announcements at a location(s) consistent with any applicable statutory requirements and policies. This needs to be clarified.

Response: Agree in part. Grants.gov has a search mechanism to be used to locate synopses and link to full announcements. As such, Grants.gov will continue to be the site used to post synopses and, for some agencies, full announcements unless, or until, another web/Internet site has been identified by OMB.

The policy has been revised to state that the synopsis should be posted with URL links through which the full announcement can be obtained. However, when agencies post the full announcement at Grants.gov, a URL link from the synopsis to the full announcement is not necessary because the synopsis and full announcement share the same URL; in this event, the synopsis must indicate that the full announcement can be found at Grants.gov FIND.

Comment: Two commenters indicated that under Section 4(a), “Applicability,” the intent was to post synopses of funding opportunities, not grant awards.

Response: Agree. The language in the policy, Section 4(a), “Applicability,” has been changed to “funding opportunity announcements and modifications to the announcements.”

Comment: With respect to Section 4(a), “Applicability,” several commenters recommended that limited eligibility and sole source funding opportunities be considered exceptions to the policy. One commenter wanted to add the word “competitive” before the terms “discretionary grants and cooperative agreements.” In addition, a commenter wanted to add the word “grant awards” after “discretionary.”

Response: Agree with “single-source” funding opportunities [“sole source” is an acquisition term with a definition that does not apply to grants] being excepted because a single-source award is not considered a true funding opportunity for anyone other than the intended recipient. As such, a third exception has been added to Section 4(a), indicating that synopses of single-source announcements will not need to be posted. Since an exception has been added for single-source awards, which are not competitive, adding the word “competitive” would be unnecessary.

An exception, however, was not added for limited eligibility announcements because limited eligibility announcements are, in fact, true funding opportunities which often include a competitive component. As such, these announcements must be posted to Grants.gov FIND in order to provide the public maximum opportunity to view potential funding opportunities, thereby maintaining transparency consistent with the customer service mandates prescribed in Public Law 106-107. Furthermore, this requirement should not be burdensome to agencies because most agencies use systems which automatically extract from the full announcement the information needed to develop and post the synopses to Grants.gov FIND. Inserting “grant awards” has not been added since the intent is to post announcements and not awards. As previously indicated, the policy has been changed to reflect the posting of funding opportunities rather than awards in Grants.gov FIND.

Comment: One commenter expressed concern about having funding opportunity announcements that are targeted for a set of pre-cleared potential applicants (in terms of top-secret or sensitive work associated with national security) included as synopses in Grants.gov FIND and requested another exception be added to meet this need.

Response: Disagree. The policy in Section 4 already states that “agencies should continue to post their full announcement at location(s) consistent with any applicable statutory requirements and policy.” If such requirements prohibit an agency from the public posting of a funding opportunity announcement, then there would be no requirement for a synopsis to be posted in Grants.gov FIND.

Comment: One commenter thought the exception at Section 4a (2), is too restrictive and did not address the “nature of overseas awards.” In addition, the commenter thought the definition of the exception stating, “A program with 100 percent of potential eligible applicants who live outside the United States, and who demonstrate lack of Internet access, and the agency has requested a waiver from OMB,” is very narrow and potentially burdensome and questioned how it could be applied. In addition the commenter agreed with the policy, but suggested the policy should reflect flexibility with respect to posting announcements for overseas recipients and the second exception should be removed altogether.

Response: Agree in part. Reference to lack of internet access and requiring agencies to request a waiver from OMB has been eliminated from the policy directive. Instead, the policy exception has been revised to state, “announcements of funding opportunities for awards less than $25,000 for which 100 percent of potential eligible applicants live outside of the United States.” It should be noted that while the exceptions to the policy do not require agencies to post synopses, agencies are not precluded from the option of posting a synopsis in Grants.gov FIND. The second option was therefore modified, but not eliminated.

Comment: One agency commenter was concerned about the effective date of postings in Grants.gov FIND. Specifically, the commenter was concerned that when a funding announcement is published that may result in the award of a contract, grant or cooperative agreement, the proposed three-day requirement is in conflict with the Federal Acquisition Regulation (FAR) 5.203(a) which requires agencies to publish a notice of solicitation at least fifteen days prior to the issuance of the solicitation (with certain exceptions).

Response: No change. The requirements to post the synopsis within three days of posting the full announcement represents the latest timeframe during which the synopsis must be posted. Agencies have the flexibility to post the synopsis prior to this timeframe to meet statutory or regulatory requirements.

Comment: Four commenters recommended changes to the policy regarding reference to the Administrative Procedures Act and suggested the reference be removed and be replaced with “statutory or regulatory requirements.” Also, one commenter recommended that the word “some” be inserted before “agencies” in reference to “agencies may need to announce the funding opportunity in the Federal Register.” As noted by the commenter, not all agencies are required to publish in the Federal Register.

Response: Agree. The reference to the Administrative Procedures Act has been replaced with “statutory or regulatory requirements.” In addition, the word “some” has been inserted in front of “agencies.”

Comment: One commenter noted that “the notice is still vague about whether agencies can post grant opportunity announcements solely at Grants.gov, and therefore, bypass the Federal Register.” The commenter asked whether or not it was acceptable to post the full information on agency Web sites with a link from Grants.gov FIND.

Response: No change. The policy indicates that agencies must post synopses of funding opportunities in Grants.gov FIND, which, in turn, states methods through which an agencies' full announcement can be accessed. The policy indicates that agencies may also put an “availability notice” of the funding opportunity in the Federal Register, which identifies the funding opportunity availability and contact information, for those that do not have Internet access. However, the policy indicates that the agency will have to follow its own statutory or regulatory requirements with regard to publishing in the Federal Register. And in response to a similar comment on the Grants.gov FIND Notice of Standard Data Elements [68 FR 3780, IIA. Comments and Responses], OMB responded as follows: Grants.gov FIND and the Federal Register are complementary. The Grants.gov FIND's primary purposes are to provide: (1) A synopsis of each funding opportunity with the minimum information people need in order to quickly decide whether they want to review the full announcement for that opportunity; and (2) a way to access the full announcement electronically. The Federal Register is one place an agency may locate the full announcement to which the synopsis links electronically. Whether a given opportunity that is synopsized in Grants.gov FIND will have its full announcement published in the Federal Register, on the agency's web site, or at Grants.gov FIND, is a question for the agency and their program offices.

Comment: An agency commented that it is not required to obtain a Catalog of Federal Domestic Assistance (CFDA) number, since many of its announcements are advertised as “Broad Agency Announcements,” which may result in contracts, grants or cooperative agreements.

Response: Agree. The Grants.gov FIND Notice of Standard Data Elements [68 FR 37382], states the following with respect to the CFDA element, “Is agency input required?” At least one entry is required (may list more than one), if the Federal agency is subject to the requirement in 31 U.S.C. Chapter 61, to report to the CFDA. Federal agencies that have programs that are not domestic assistance, and therefore, are not listed in the CFDA, may arrange with Grants.gov to insert an alternate number that will allow listing of the funding opportunity. Consistent with this approach, language has been added to clarify that agencies should work with Grants.gov to obtain an alternate number in situations where the CFDA does not apply.

Linda M. Springer,
Controller.

To the Heads of Executive Departments and Agencies

Subject: Requirement to Post Funding Opportunity Announcement Synopses at Grants.gov and Related Data Elements/Format.

1. Purpose. This policy directive establishes a government-wide requirement for Federal agencies to electronically post synopses of announcements of funding opportunities under financial assistance programs that award discretionary grants and cooperative agreements, using a standard set of data elements. The purpose of the synopsis is to provide potential applicants (1) enough information about the funding opportunity to decide whether they are interested in viewing the full announcement; (2) one or more ways (e.g., an Internet site, e-mail address or telephone number) to get the full announcement with the detailed information; and (3) one common Web site to search for all Federal grant opportunities by key word, date, Catalog of Federal Domestic Assistance (CFDA) number, specific agency or across agencies. The attached data elements are the government-wide standard developed for Federal programs that award discretionary grants and cooperative agreements.

2. Authority. The policy directive is part of the implementation of the Federal Financial Assistance Management Improvement Act of 1999 (Public Law 106-107). This policy is also designed to further implement the Grants.gov initiative, one of the 24 electronic government (E-Gov) initiatives under the President's Management Agenda.

3. Background. Public Law 106-107, requires the Office of Management and Budget (OMB) to direct, coordinate, and assist Executive Branch departments and agencies in establishing an interagency process to streamline and simplify Federal financial assistance procedures for non-Federal entities. The law also requires executive agencies to allow applicants to electronically apply for and report on the use of funds from any Federal financial assistance program administered by the agency.

The posting of standard synopses in an electronic environment provides government customers the opportunity to locate funding opportunities in one place and to decide whether or not to apply for the opportunity. Establishing data standards for the electronic format of the synopses and the posting of synopses on the Internet serve to implement Public Law 106-107 and the President's Management Agenda.

4. Policy. The data elements/format attached to this policy directive are the government-wide standard for posting synopses at http://www.Grants.gov or such Web site/Internet address that may be identified by OMB, for programs that award discretionary grants and cooperative agreements. Agencies should continue to post their full announcement at location(s) consistent with any applicable statutory requirements and policy. All Federal agencies are required to post synopses of announcements of funding opportunities for programs that award discretionary grants and cooperative agreements at the Grants.gov FIND module and are also encouraged to post other types of Federal funding opportunities at Grants.gov FIND. The synopsis shall be posted with universal resource locator (URL) links through which the full announcement can be obtained. A URL link from the synopsis to the full announcement is not necessary for full announcements posted to Grants.gov because the synopsis and full announcement share the same URL. However, in this event the synopsis must indicate that the full announcement can be found at Grants.gov FIND.

a. Applicability. All Federal agencies will be required to post synopses of their discretionary grant and cooperative agreement funding opportunity announcements and modifications to the announcements at Grants.gov or a Web site/Internet address identified by OMB, using the standard data elements/format, except for:

(1) Programs that only publish funding opportunities in the Catalog of Federal Domestic Assistance (CFDA).

(2) Announcements of funding opportunities for awards less than $25,000 for which 100 percent of eligible applicants live outside of the United States.

(3) Single source announcements of funding opportunities issued by an agency which are specifically directed to a known recipient.

b. Effective Date. This policy directive is effective thirty days from this date of publication, and all agencies shall post announcement synopses at the Grants.gov FIND module beginning November 7, 2003. A synopsis of the Federal funding opportunity shall be posted at Grants.gov FIND no later than three business days after release of the full announcement.

c. Exemptions. Requests for exemptions must be directed to OMB, Office of Federal Financial Management (OFFM).

5. Agency Responsibilities.

a. Issue any needed direction to offices that award discretionary grants and cooperative agreements on the requirement to post a synopsis at the Grants.gov FIND module, including the standard data elements/format. Synopses must follow the format to ensure all required data elements are included.

b. Ensure the synopsis posted at the Grants.gov FIND Module will have full instructions regarding where to obtain the full announcement for the funding opportunity. To further satisfy statutory, regulatory, or the agency's policy requirements, some agencies may need to announce the funding opportunity in the Federal Register.

c. Obtain a Catalog of Domestic Assistance (CFDA) number for all programs that post a synopsis at Grants.gov. For those programs that do not have an assigned CFDA number, the program office or agency must contact the Grants.gov Program Management Office to obtain an alternate identifier to be used in the synopsis posted at the Grants.gov FIND module.

6. Information Contact. Direct any requests for exemption or questions about the policy to the Office of Federal Financial Management (OFFM), 202-395-3993.

Linda M. Springer,

Controller.

Grants.gov FIND Data Elements/Format
Data element | Description | Is agency input required?
Federal agency user identification | User ID of Federal agency representative who is authorized to post information to the FedGrants.gov site | One entry required.
Federal agency user password | Password of Federal agency representative who is authorized to post information in the FedGrants.gov site | One entry required.
Announcement type | Type of announcement to which the synopsis relates: Initial announcement Modification to previously issued announcement | One entry required Modification requires date and only changes made to the initial announcement.
Funding opportunity title | The Federal agency's title for the funding opportunity (including program subcomponent names, as the agency deems appropriate) | One entry required.
Funding opportunity number | The number, if any that the Federal agency assigns to the announcement. For a modification of a previously issued announcement, use the funding opportunity number of the earlier announcement | Optional for initial announcement, if a number is not assigned, FedGrants.gov will assign one. Agency input is required for modification.
Catalog of Federal Domestic Assistance (CFDA) number | Number(s) of the CFDA listing(s) for program(s) included in the announcement (e.g., 12.300) | At least one entry required (may list more than one) if the Federal agency is subject to the requirement in 31 U.S.C. chapter 61, to report to the CFDA. Federal agencies that have programs not listed in the CFDA, may arrange with FedGrants.gov to insert an alternative number that will allow listing of the funding opportunity.
Federal agency name | Name of the Federal organization responsible for the announcement, including agency name and as applicable, specific subcomponent (e.g., department, bureau, directorate, or division) | Optional. If an name office name is not provided, FedGrants.gov will insert the office name provided when the agency initially registered and obtained a user ID and password.
Federal agency contact for electronic access problems | Should list name of person (e.g., webmaster) to whom potential applicants should refer questions if they cannot link from FedGrants.gov to the full announcement (this person is distinct from the programmatic and other agency contacts who are listed in the full announcement) | At least one entry required. May list more than one.
E-mail address for Federal agency contact for electronic access problems | E-mail address of Federal agency contact who can help with electronic access problems | Required. May list only one.
Telephone number for Federal agency contact for electronic access problems | Telephone number of Federal agency contact who can help with electronic access problems | Required. May list only one.
Funding opportunity description | A concise description of the funding opportunity, designed to contain sufficient information for potential applicants to decide whether they are interested enough to read the full announcement | Required.
Funding instrument type | Types of instruments that may be awarded (codes proved for system-to-system interface): | Required. Select all that apply (up to 4 codes).
| Grant (G)
| Cooperative Agreement (CA)
| Procurement Contract (PC)
| Other (O)
| Note that if your announcement states that you may award procurement contracts, as well as assistance instruments, the announcement must be posted to both the procurement and assistance modules of Grants.gov FIND.
Category of funding activity | Designed to allow potential applicants to narrow their search to programs in the CFDA categories of interest to them. Note that the terms are defined in the CFDA. List all categories that apply (codes provided for system-to- system interface): | At least one entry required and may list as many as needed. There is no default value. If the category of funding activity does not clearly fit in any listed category, must select, “Other.”
| Agriculture (AG)
| Arts (AR-see “Cultural Affairs” in CFDA
| Business and Commerce (BC)
| Community Development (CD)
| Consumer Protection (CP)
| Disaster Prevention and Relief (DPR)
| Education (ED)
| Employment, Labor and Training (ELT)
| Energy (EN)
| Environment (ENV)
| Food and Nutrition (FN)
| Health (HL)
| Housing (HO)
| Humanities (HU-see “Cultural Affairs” in CFDA)
| Income Security and Social Services (ISS)
| Information and Statistics (IS)
| Law, Justice and Legal Services (LJL)
| Natural Resources (NR)
| Regional Development (RD)
| Science and Technology and other
| Research and Development (ST)
| Transportation (T)
| Other (O-see text field entitle “Explanation of other category of funding activity” for clarification.)
Explanation of “other” category of funding activity | A text description of “Other” category or categories of funding activity applicable to the funding opportunity | Required if an agency selects “other” as a category of funding activity, either by itself or in combination with one or more other categories.
Estimated total program funding | The total amount of funding the agency expects to make available for awards under this announcement | Optional. Default, if agency does not provide input, is “not available.” However, agencies should provide this information whenever possible.
Expected number of awards | The number of individual awards the agency expects to make under this announcement | Optional. Default, if agency provides no input, is “not available.” However, agencies are strongly encouraged to provide this information whenever possible.
Ceiling, if any, on amount of individual award | The maximum dollar amount for an individual award under this announcement that the awarding agency will not exceed | Required. Enter a number or “none.”
Floor, if any, on amount of individual award | Any minimum dollar amount for an individual award under this announcement (i.e., if the awarding agency will not make smaller awards under any circumstances) | Required. Enter a number or “none.”
How to get full announcement | Hypertext stating where to get the full announcement, if it si available on the Internet. This field should include the descriptor that precedes the URL for the full announcement (e.g., “Click on the following link to see the full text of the announcement for this funding opportunity”) | Required.
Electronic link to full announcement | The URL for the full announcement, unless the announcement is uploaded in Grants.gov FIND | Agency input is optional because there will be no URL if the agency uploads the announcement in Grants.gov FIND and does not also post it on the Internet.
Eligible applicants | Designed to help potential applicants narrow their searches to programs where they are most likely to be eligible, although they still must read the full announcement for details because eligibility may be further limited to certain subsets of applicants within categories below (codes provided for system-to-system interface). 99-Unrestricted (i.e., open to any type of entity below), subject to any exceptions listed in the text field entitled “Additional information on eligibility.” | Required to either select “99” for unrestricted or select all others that apply.
| Government Codes:
| 00-State governments
| 01-County governments
| 02-City or township governments
| 04-Special district governments
| 05-Independent school districts
| 06-State controlled institutions of higher education
| 07-Native American tribal governments (Federally recognized)
| 08-Public Housing Authorities/Indian housing authorities
| Non-Government organizations:
| 11-Native American tribal organizations (other than Federally recognized tribal governments)
| 12-Nonprofits with 501©)(3) IRS status, other than institutions of higher education.
| 13-Nonprofits without 501©)(3) IRS status, other than institutions of higher education
| 20-Private institutions of higher education
| 21-Individuals
| 22-For-profit organizations other than small businesses
| 23-Small businesses
| 25-Others (see text field entitled “Additional information on eligibility” for clarification)
Additional information on eligibility | Explanatory information to provide any needed clarification of the meaning of “unrestricted” (e.g., all but foreign entities) to identify types of recipients meant by “all others,” or to provide further information about limitations for any other categories (e.g., for categories 6 and 20, a limitation to historically Black colleges and universities) | Required if agency selects either category 25 or category 99 in “eligible applicants” field. If agency selects category 99 and there are not further limitations, enter “no restrictions.” Optional for additional information related to any category other than 99 or 25.
Cost sharing or matching requirement | Answer to question: Is cost sharing or matching required? (Y or N) | Required.
Due date for applications | Date when applications are due (or latest date when applications accepted, if announcement has multiple due dates or is a general announcement that is open for a specified period with applications accepted at any time during that period) Note: This field is to contain the date when pre-applications, rather than applications, are due if an applicant must submit a pre-application to be considered for an award | Required, if Explanation of application due dates' field is not completed. Optional otherwise.
Explanation of application due dates | Used by agencies wanting to post more information about due date(s) for potential applicants. For example, the field may be used to describe programs with multiple due dates or ones where applications are accepted at any point within a broad time window. The field also may be used to add information about the time when applications are field due (e.g., 5 p.m. EDT on the date given in the “Due date for applications” field) | Optional (Note: “Due date for applications” field is required if this “Explanation of application due dates” text is not completed).
Date of Grants.gov FIND posting | Month, day, and year when the agency wants the synopsis posted on Grants.gov FIND (e.g., some agencies may build in delays to allow announcements to appear first in the Federal Register or at agencies Internet site. Format is MMDDCCYY | Required.
Date for Grants.gov FIND to archive | Month, day and year when the agency wants the synopsis archived. Format is MMDDCCYY | Optional. Default, if agency provides no input, is 30 days after the date given in the “Due date for applications” field.

[FR Doc. 03-25488 Filed 10-7-03; 8:45 am]

BILLING CODE 3110-01-P